DEPARTMENT OF TRANSPORTATION

Federal Aviation Administration

14 CFR Part 39

[Docket No. FAA-2012-1110; Directorate Identifier 2012-NM-013-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model 707 airplanes, and Model 720 and 720B series airplanes. The existing AD currently requires replacing wiring for the fuel boost pumps and override pumps with new wiring, installing Teflon sleeving on the wiring, and doing associated actions; and doing repetitive inspections to detect damage of the wiring or evidence of a fuel leak. Since we issued that AD, we have determined through service experience that the inspection interval was too long. This proposed AD would reduce the repetitive inspection interval. We are proposing this AD to detect and correct damaged wiring for the fuel boost pumps and override pumps, which could cause electrical arcing that could puncture the conduit containing the wire, and result in a fuel tank explosion or a fire adjacent to the fuel tank.

DATES: We must receive comments on this proposed AD by December 13, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Rebel Nichols, Aerospace Engineer, Propulsion Branch, ANM-140S, Seattle Aircraft Certification Office (ACO), FAA, 1601 Lind Avenue SW., Renton, WA 98057-3356; phone 425-917-6509; fax 425-917-6590; email: Rebel.Nichols@faa.gov.

SUPPLEMENTARY INFORMATION:

Comments Invited

We invite you to send any written relevant data, views, or arguments about this proposed AD. Send your comments to an address listed under the ADDRESSES section. Include “Docket No. FAA-2012-1110; Directorate Identifier 2012-NM-013-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On August 17, 2001, we issued AD 2001-17-20, Amendment 39-12411 (66 FR 44954, August 27, 2001), for certain Model 707 airplanes, and Model 720 and 720B series airplanes. That AD requires replacing the wiring for the fuel boost pumps and override pumps with new wiring, installing Teflon sleeving on the wiring, and doing associated actions; and doing repetitive inspections to detect damage of the wiring or evidence of a fuel leak. That AD resulted from a report that, while investigating a fuel leak around the bolts on the number 1 fuel boost pump, an operator found wire damage where the fuel boost pump wiring exited the boost pump and entered the boost pump access area. We issued that AD to detect and correct damaged wiring for the fuel boost pumps and override pumps, which could cause electrical arcing that could puncture the conduit containing the wire, and result in a fuel tank explosion or a fire adjacent to the fuel tank.

Actions Since Existing AD, Amendment 39-12411 (66 FR 44954, August 27, 2001) Was Issued

Since we issued AD 2001-17-20, Amendment 39-12411 (66 FR 44954, August 27, 2001), we have determined through service experience that the inspection interval was too long.

FAA's Determination

We are proposing this AD because we evaluated all the relevant information and determined the unsafe condition described previously is likely to exist or develop in other products of the same type design.

Proposed AD Requirements

This proposed AD would retain all requirements of AD 2001-17-20, Amendment 39-12411 (66 FR 44954, August 27, 2001). This proposed AD would reduce the repetitive inspection interval from 30,000 flight hours to 15,000 flight hours. This change has been coordinated with the manufacturer.

Change to Existing AD, Amendment 39-12411 (66 FR 44954, August 27, 2001)

This proposed AD would retain all the requirements of AD 2001-17-20, Amendment 39-12411 (66 FR 44954, August 27, 2001). Since AD 2001-17-20 was issued, the AD format has been revised, and certain paragraphs have been rearranged. As a result, the corresponding paragraph identifiers have changed in this proposed AD, as listed in the following table:

Revised Paragraph Identifiers
Requirement in AD 2001-17-20, Amendment 39-12411 (66 FR 44954, August 27, 2001) | Corresponding requirement in this proposed AD
paragraph (a) | paragraph (g)
Note 2 | paragraph (g)(1)
Note 3 | paragraph (g)(2)
paragraph (b) | paragraph (h)

Costs of Compliance

We estimate that this proposed AD affects 5 airplanes of U.S. registry.

We estimate the following costs to comply with this proposed AD:

Estimated Costs
Action | Labor cost | Parts cost | Cost per product | Cost on U.S. operators
Replacement [retained actions from AD 2001-17-20, Amendment 39-12411 (66 FR 44954, August 27, 2001)] | 38 work-hours × $85 per hour = $3,230 | $9,943 | $13,173 | $65,865
Inspection [retained actions from AD 2001-17-20, Amendment 39-12411 (66 FR 44954, August 27, 2001)] | 3 work-hours × $85 per hour = $255 per inspection cycle. | $0 | $255 per inspection cycle | $1,275 per inspection cycle.

The new requirements of this proposed AD add no additional economic burden. The increase in replacement labor costs of 31 work hours in AD 2001-17-20, Amendment 39-12411 (66 FR 44954, August 27, 2001), to the 38 work hours specified in this proposed AD, is due to the opening and closing hours being included in the cost of this proposed AD. We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2001-17-20, Amendment 39-12411 (66 FR 44954, August 27, 2001), and adding the following new AD:

The Boeing Company: Docket No. FAA-2012-1110; Directorate Identifier 2012-NM-013-AD.

(a) Comments Due Date

The FAA must receive comments on this AD action by December 13, 2012.

(b) Affected ADs

This AD supersedes AD 2001-17-20, Amendment 39-12411 (66 FR 44954, August 27, 2001).

(c) Applicability

This AD applies to The Boeing Company Model 707-100 long body, -200, -100B long body, and -100B short body series airplanes; Model 707-300, -300B, -300C, and -400 series airplanes; and Model 720 and 720B series airplanes; certificated in any category; line numbers 1 through 941 inclusive.

(d) Subject

Joint Aircraft System Component (JASC)/Air Transport Association (ATA) of America Code 24, Electrical Power.

(e) Unsafe Condition

This AD was prompted by a report that, while investigating a fuel leak around the bolts on the number 1 fuel boost pump on a Boeing Model 707 series airplane, an operator found wire damage where the fuel boost pump wiring exited the boost pump and entered the boost pump access area. Since we issued AD 2001-17-20, Amendment 39-12411 (66 FR 44954, August 27, 2001) to address the unsafe condition, we have determined through service experience that the inspection interval was too long. We are issuing this AD to detect and correct damaged wiring for the fuel boost pumps and override pumps, which could cause electrical arcing that could puncture the conduit containing the wire, and result in a fuel tank explosion or a fire adjacent to the fuel tank.

(f) Compliance

Comply with this AD within the compliance times specified, unless already done.

(g) Retained Replacement of Wiring, Installation of Sleeving, and Associated Actions

This paragraph restates the requirements of paragraph (a) of AD 2001-17-20, Amendment 39-12411 (66 FR 44954, August 27, 2001). Within 1 year or 4,000 flight hours after October 1, 2001 (the effective date of AD 2001-17-20), whichever occurs first: Replace the wiring for the fuel boost pumps and override pumps, install Teflon sleeving over the wiring, and do all associated actions, per the Accomplishment Instructions of Boeing Service Bulletin A3500, Revision 1, dated April 26, 2001. The associated actions include performing a general visual inspection of the area around each fuel boost pump and override pump for evidence of a fuel leak; finding the source of any fuel leak and repairing the affected area; replacing the conduit, if required; and performing a detailed visual inspection of the wiring installed in the conduit for evidence of electrical arcing or a fuel leak, or exposed copper wire. If replacement of the conduit is deferred per the Accomplishment Instructions of Boeing Service Bulletin A3500, Revision 1, dated April 26, 2001, repeat the inspection for fuel leaks every 500 flight hours until the conduit is replaced, and replace the conduit within 6,000 flight hours or 18 months, whichever occurs first.

(1) For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(2) For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(h) Retained Repetitive Inspections

This paragraph restates the requirements of paragraph (b) of AD 2001-17-20, Amendment 39-12411 (66 FR 44954, August 27, 2001), with a new compliance time. After replacement of the wiring per paragraph (g) of this AD, repeat the detailed visual inspection of the wiring for the fuel boost pumps and override pumps for damage, such as evidence of electrical arcing or exposed copper wire, or evidence of a fuel leak. After the effective date of this AD, repeat the inspection one time at the earlier of the times specified in paragraphs (h)(1) and (h)(2) of this AD, per the Accomplishment Instructions of Boeing Service Bulletin A3500, Revision 1, dated April 26, 2001. If any electrical arcing or exposed copper wire or evidence of a fuel leak is detected during any inspection per this paragraph, before further flight, do the applicable corrective actions (including finding the source of any fuel leak and repairing the affected area, replacing the wiring, replacing the conduit, or installing new Teflon sleeving; as applicable) according to the Accomplishment Instructions of Boeing Service Bulletin A3500, Revision 1, dated April 26, 2001. Repeat the inspection thereafter at intervals not to exceed 15,000 flight hours.

(1) Within 30,000 flight hours after the most recent inspection.

(2) At the later of the compliance times specified in paragraphs (h)(2)(i) and (h)(2)(ii) of this AD.

(i) Within 15,000 flight hours after the most recent inspection.

(ii) Within 3 years after the effective date of this AD.

(i) Credit for Previous Actions

This paragraph provides credit for the actions required by paragraph (g) of this AD, if those actions were performed before October 1, 2001 (the effective date of AD 2001-17-20, Amendment 39-12411 (66 FR 44954, August 27, 2001)), using Boeing Alert Service Bulletin A3500, dated July 27, 2000, which is not incorporated by reference in this AD.

(j) Alternative Methods of Compliance (AMOCs)

(1) The Manager, Seattle Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2001-17-20, Amendment 39-12411 (66 FR 44954, August 27, 2001), are approved as AMOCs for this AD, except for AMOCS that change the inspection frequency.

(k) Related Information

(1) For more information about this AD, contact Rebel Nichols, Aerospace Engineer, Propulsion Branch, ANM-140S, Seattle Aircraft Certification Office (ACO), FAA, 1601 Lind Avenue SW., Renton, WA 98057-3356; phone 425-917-6509; fax 425-917-6590; email: Rebel.Nichols@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Issued in Renton, Washington, on October 22, 2012.
Kalene C. Yanamura,
Acting Manager, Transport Airplane Directorate, Aircraft Certification Service.

[FR Doc. 2012-26480 Filed 10-26-12; 8:45 am]

BILLING CODE 4910-13-P